Title 3—

The President

Proclamation 8473 of January 15, 2010

Martin Luther King, Jr., Federal Holiday, 2010

By the President of the United States of America

A Proclamation

The Reverend Dr. Martin Luther King, Jr., challenged our Nation to recognize that our individual liberty relies upon our common equality. In communities marred by division and injustice, the movement he built from the ground up forced open doors to negotiation. The strength of his leadership was matched only by the power of his words, which still call on us to perfect those sacred ideals enshrined in our founding documents.

“We have an opportunity to make America a better Nation,” Dr. King said on the eve of his death. “I may not get there with you. But I want you to know tonight that we, as a people, will get to the promised land.” Though we have made great strides since the turbulent era of Dr. King’s movement, his work and our journey remain unfinished. Only when our children are free to pursue their full measure of success—unhindered by the color of their skin, their gender, the faith in their heart, the people they love, or the fortune of their birth—will we have reached our destination.

Today, we are closer to fulfilling America’s promise of economic and social justice because we stand on the shoulders of giants like Dr. King, yet our future progress will depend on how we prepare our next generation of leaders. We must fortify their ladders of opportunity by correcting social injustice, breaking the cycle of poverty in struggling communities, and reinvesting in our schools. Education can unlock a child’s potential and remains our strongest weapon against injustice and inequality.

Recognizing that our Nation has yet to reach Dr. King’s promised land is not an admission of defeat, but a call to action. In these challenging times, too many Americans face limited opportunities, but our capacity to support each other remains limitless. Today, let us ask ourselves what Dr. King believed to be life’s most urgent and persistent question: “What are you doing for others?” Visit www.MLKDay.gov to find Martin Luther King, Jr., Day of Service projects across our country.

Dr. King devoted his life to serving others, and his message transcends national borders. The devastating earthquake in Haiti, and the urgent need for humanitarian support, reminds us that our service and generosity of spirit must also extend beyond our immediate communities. As our Government continues to bring our resources to bear on the international emergency in Haiti, I ask all Americans who want to contribute to this effort to visit www.WhiteHouse.gov/HaitiEarthquake. By lifting up our brothers and sisters through dedication and service—both at home and around the world—we honor Dr. King’s memory and reaffirm our common humanity.

NOW, THEREFORE, I, BARACK OBAMA, President of the United States of America, by virtue of the authority vested in me by the Constitution and the laws of the United States, do hereby proclaim January 18, 2010, as the Martin Luther King, Jr., Federal Holiday. I encourage all Americans to observe this day with appropriate civic, community, and service programs in honor of Dr. King’s life and lasting legacy.

IN WITNESS WHEREOF, I have hereunto set my hand this fifteenth day of January, in the year of our Lord two thousand ten, and of the Independence of the United States of America the two hundred and thirty-fourth.

[FR Doc. 2010-1368

Filed 1-21-10; 8:45 am]

Billing code 3195-W0-P